DEPARTMENT OF ENERGY

Federal Energy Regulatory Commission

[Docket No. RP03-615-000]

MIGC, Inc.; Notice of Filing

October 2, 2003.

Take notice that on September 24, 2003, MIGC, Inc. (MIGC) tendered for filing as part of its FERC Gas Tariff, First Revised Volume No.1, the following tariff sheets, to become effective November 1, 2003:

Sixth Revised Sheet No. 90A

Second Revised Sheet No. 90B

MIGC states that the purpose of this filing is to update MIGC's tariff to combine revisions which were previously approved in separate proceedings. MIGC further states that these proposed revisions are necessary to finalize MIGC's compliance with FERC Order's No. 587-O and 587-R.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “eFiling” link.

Comment Date: October 6, 2003.

Magalie R. Salas,
Secretary.

[FR Doc. E3-00018 Filed 10-8-03; 8:45 am]

BILLING CODE 6717-01-P